DEPARTMENT OF THE INTERIOR

Fish and Wildlife Service

Southern Idaho Ground Squirrel Programmatic Candidate Conservation Agreement With Assurances

AGENCY: Fish and Wildlife Service, Interior.

ACTION: Notice of intent.

SUMMARY: Pursuant to the National Environmental Policy Act, this notice advises the public that the U.S. Fish and Wildlife Service (Service), in cooperation with the Idaho Department of Fish and Game (IDFG) and the Idaho Governor's Office of Species Conservation, intends to gather information necessary to prepare an environmental document (environmental assessment and/or environmental impact statement) regarding a proposed Southern Idaho Ground Squirrel Programmatic Candidate Conservation Agreement with Assurances (CCAA) and enhancement of survival permit under section 10(a)(1)(A) of the Endangered Species Act of 1973, as amended (ESA). The IDFG is the proposed permit applicant.

The Service is furnishing this notice in order to: (1) Advise other Federal and State agencies, affected tribes, and the public of our intentions; (2) announce the initiation of a 21-day public scoping period; and (3) to obtain suggestions and information on the scope of issues to be addressed in the environmental document.

DATES: Written comments from all interested parties must be received on or before November 24, 2003.

ADDRESSES: Comments should be addressed to Carmen Thomas, Project Biologist, U.S. Fish and Wildlife Service, 1387 S. Vinnell Way, Room 368, Boise, Idaho 83709; facsimile: (208) 378-5262.

FOR FURTHER INFORMATION CONTACT: Carmen Thomas at the above address or telephone: (208) 378-5243.

SUPPLEMENTARY INFORMATION: Candidate Conservation Agreements with Assurances contain a strategy for covered lands and activities that constitute an applicant's contribution to avoid listing or remove the need to list a covered species as threatened or endangered under the ESA. In return, an applicant receives assurances that it will not be required to provide additional conservation measures if any of the covered species become listed under the ESA in the future.

The proposed CCAA planning document would cover approximately 1,000,000 acres in Adams, Washington, Payette, and Gem Counties, Idaho; within this area, individual non-Federal landowners could voluntarily enroll lands under the proposed CCAA. It is unknown how many landowners would participate and enroll lands under the CCAA, however, we expect the acreage of enrolled lands to be substantially less than 1,000,000 acres.

The primary goal of the proposed CCAA would be to implement habitat and population conservation measures on non-Federal lands enrolled under the CCAA for the southern Idaho ground squirrel (Spermophilus brunneus endemicus). Habitat conservation measures would focus on restoration or protection of native plant communities, including shrub/steppe habitat, or other habitat management measures to benefit this species. Other conservation measures could include: minimization of impacts from land use activities in southern Idaho ground squirrel-occupied habitat to conserve ground squirrel populations; prohibition of shooting, trapping, and poisoning of southern Idaho ground squirrels; reintroduction of southern Idaho ground squirrels into unoccupied suitable habitat; and authorization for Service and IDFG personnel to access enrolled lands for purposes of monitoring southern Idaho ground squirrel populations and habitat. Potential covered activities include: crop cultivation and harvesting, livestock grazing and production, farm equipment operation, and recreational activities (e.g., hunting, fishing, camping, dog training, and use of recreational vehicles on and off established roads).

The Service will conduct an environmental review of the proposed CCAA and prepare an environmental document. The review will analyze the CCAA, as well as a full range of reasonable alternatives, and the associated impacts of each. Should information become available that indicates significant environmental impacts from the proposed CCAA, an Environmental Impact Statement will be prepared. Comments and suggestions are invited from all interested parties to ensure the full range of issues related to this proposed action are identified. Comments or questions should be addressed to the Service at the address or telephone number provided above. See ADDRESSES and FOR FURTHER INFORMATION CONTACT.

The environmental review of this proposed project will be conducted in accordance with the requirements of the National Environmental Policy Act of 1969, as amended (42 U.S.C. 4321 et seq.), National Environmental Policy Act Regulations (40 CFR parts 1500-1508), other applicable Federal laws and regulations, and policies and procedures of the Service for compliance with those regulations.

Dated: October 23, 2003.
William F. Shake,
Deputy Regional Director, Fish and Wildlife Service, Region 1, Portland, Oregon.

[FR Doc. 03-27547 Filed 10-31-03; 8:45 am]

BILLING CODE 4310-55-P